DEPARTMENT OF HEALTH AND HUMAN SERVICES

Administration for Community Living

Agency Information Collection Activities: Proposed Collection; Public Comment Request; Evaluation of the National Paralysis Resource Center (NPRC) and Performance Management Support, OMB Control Number 0985-New

AGENCY: Administration for Community Living, Department of Health and Human Services.

ACTION: Notice.

SUMMARY: The Administration for Community Living (ACL) is announcing an opportunity for the public to comment on the proposed collection of information listed above. Under the Paperwork Reduction Act of 1995 (PRA), Federal agencies are required to publish a notice in the Federal Register concerning each proposed collection of information, including each proposed extension of an existing collection of information, and to allow 60 days for public comment in response to the notice. This information collection (IC) request solicits comments on the information collection requirements relating to the Evaluation of the National Paralysis Resource Center (NPRC) and Performance Management Support.

DATES: Comments on the collection of information must be submitted electronically by 11:59 p.m. (EST) or postmarked by December 27, 2022.

ADDRESSES: Submit electronic comments on the collection of information to: Amanda Cash, 202-795-7369 Amanda.Cash@acl.hhs.gov. Submit written comments on the collection of information to Administration for Community Living, 330 C Street SW, Washington, DC 20201, Attention: Amanda Cash.

FOR FURTHER INFORMATION CONTACT: Amanda Cash, 202-795-7369, Amanda.Cash@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) whether the proposed collection of information is necessary for the proper performance of ACL's functions, including whether the information will have practical utility.

(2) the accuracy of ACL's estimate of the burden of the proposed collection of information, including the validity of the methodology and assumptions used to determine burden estimates.

(3) ways to enhance the quality, utility, and clarity of the information to be collected; and

(4) ways to minimize the burden of the collection of information on respondents, including through the use of automated collection techniques when appropriate, and other forms of information technology.

The Administration for Community Living (ACL) is conducting process and outcome evaluations of the National Paralysis Resource Center (NPRC) to understand how and to what extent the NPRC is meeting its goals. The NPRC provides resources to people living with paralysis, their caregivers, and their support network. ACL is responsible for oversight of the NPRC, which has been administered by the Christopher and Dana Reeve Foundation since its authorization in 2009. This data collection effort will be focused on evaluating specific major activities of the NPRC: (a) the Quality of Life (QOL) Grants Program; (b) the Peer and Family Support Program (PFSP); and (c) the Promotional Activities, Outreach, and Collaboration program. This evaluation seeks to identify barriers and challenges to operating the NPRC, document best practices for other Resource Centers, and recommend areas for improvement.

Specifically, this IC will help ACL to understand how each major NPRC activity aims to achieve the following goals, and to what extent the activities affect related outcomes:

a. Improving the health and quality of life of individuals living with paralysis of all ages, their families, and their support network

b. Raising awareness of members of the target populations about paralysis

c. Increasing access of members of the target populations to services relevant to individuals with paralysis

d. Increasing the empowerment, confidence, and independence of individuals living with paralysis

e. Strengthening support networks for individuals living with paralysis

f. Improving and increasing opportunities for community living for individuals living with paralysis and their caretakers

To gain an in-depth understanding of the perspectives of mentors and peers participating in the PFSP, QOL program subgrantees, and people who serve as regional champions in the Promotional Activities, Outreach, and Collaboration program, eight focus groups will be conducted with no more than eight people per focus group. Additionally, a web-based survey will be administered to a maximum of 330 PFSP peers, 150 PFSP mentors, and 850 people served by QOL subgrantees to understand respondents' experiences with the NPRC.

This data will contribute to documenting how each of the NPRC's major activities are delivered and the extent to which they improve the quality of life of people living with paralysis, their caregivers, and their support networks.

Findings can inform practice for the NPRC and other Resource Centers. This evaluation will also help to identify how the NPRC can better meet the stated goals of the Department of Health and Human Services (HHS) to, “protect and strengthen equitable access to high quality and affordable healthcare,” and to, “strengthen social well-being, equity, and economic resilience.” ¹

¹ FY 2023 Evaluation Plan (p. 3). (2022). U.S. Department of Health & Human Services. https://aspe.hhs.gov/reports/fy-2023-hhs-evaluation-plan.

The proposed data collection tools may be found on the ACL website for review at: https://www.acl.gov/about-acl/public-input.

Estimated Program Burden: ACL estimates the burden of this collection of information as follows:

The eight focus groups together will include no more than 64 total individuals representing three major activities of the NPRC: the QOL Grants Program; the PFSP; and the Promotional Activities, Outreach, and Collaboration program. The burden for their participation is estimated at 1.5 hours per participant, for a total of 96 hours.

A maximum of 150 PFSP mentors, 330 PFSP peers, and 850 people served by QOL subgrantee programs are expected to respond to the web-based survey, for a total of 1,330 respondents. The approximate burden for survey completion is 15 minutes for the peer mentor survey, and 10 minutes for the peer survey and QOL end-user survey per respondent.

This results in a total survey burden estimate of 14,050 minutes (234.17 hours). The estimated survey completion burden includes time to review the instructions, read the questions, and complete responses.

Respondent/data collection activity | Number of respondents | Responses per respondent | Hours per response | Annual burden hours *
Focus groups | 64 | 1 | 1.50 | 96.00
Survey—Peer Mentor | 150 | 1 | 0.25 | 37.50
Survey—Peers | 330 | 1 | 0.17 | 55.00
Survey—Quality of Life End-User | 850 | 1 | 0.17 | 141.67
Total | 1,394 | 1 | 2.09 | 330.17
* Annual burden hours were calculated from total minutes for each activity divided by sixty.

Dated: October 24, 2022.
Alison Barkoff,
Acting Administrator and Assistant Secretary for Aging.

[FR Doc. 2022-23484 Filed 10-27-22; 8:45 am]

BILLING CODE 4154-01-P